DEPARTMENT OF AGRICULTURE

Submission for OMB Review; Comment Request

July 19, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax to (202) 395-5806 and to Departmental Clearance Office, USDA, OCIO, Mail Stop 7602, Washington, D.C. 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Office of the Assistant Secretary for Civil Rights

Title: Independent Assessment of the Delivery of Technical and Financial Assistance.

OMB Control Number: 0503-NEW.

Summary of Collection: In April 2009, the Honorable Thomas J. Vilsack, Secretary of the United States Department of Agriculture, ordered that there be an independent external analysis of program delivery in USDA's Farm Service Agency, Natural Resources Conservation Service, Rural Development and Risk Management field offices. The analysis will provide specific recommendations and methodologies to ensure that programs are delivered equitably and that access is afforded to all constituents, with particular emphasis on socially disadvantaged farmers, ranchers, and other constituents. The legal authorities to collect this information can be found in the Food, Conservation, and Energy Act of 2008 (2008 Farm Bill), Public Law 110-246, 122 Stats. 1651 and the 2002 Farm Bill, Section 10707 of the Farm Security and Rural Investment Act of 2002 (2002 Farm Bill), Public Law 107-171.

Need and Use of the Information: USDA Plans to conduct focus group discussions as part of an evaluation of the effectiveness of the agencies' programs in reaching diverse populations in a non-discriminatory manner. The objective of conducting focus groups will be to obtain customer views, opinions, and experiences on how effectively USDA is equitably and fairly providing technical and financial assistance to all customers and potential customers, particularly socially disadvantaged ones. The assessment will identify barriers to equal and fair access for all customers regardless of race, gender and other protected categories. This information will provide USDA with direct input from USDA customers regarding their attitudes, understandings, and experiences with the four USDA Agencies and the programs and services they provide.

Description of Respondents: Individuals or households.

Number of Respondents: 2,250.

Frequency of Responses: Reporting: Other (once).

Total Burden Hours: 1,102.

Ruth Brown,
Departmental Information Collection Clearance Officer.

[FR Doc. 2010-17946 Filed 7-21-10; 8:45 am]

BILLING CODE 3410-11-P